OFFICE OF PERSONNEL MANAGEMENT

5 CFR Part 337

RIN 3206-AL51

Examining System

AGENCY: U.S. Office of Personnel Management.

ACTION: Final rule.

SUMMARY: The U.S. Office of Personnel Management (OPM) is issuing final regulations pertaining to direct hire authority for certain acquisition positions. The purpose of this change is to conform OPM's regulations with recent changes in law.

DATES: March 24, 2010.

FOR FURTHER INFORMATION CONTACT: Darlene Phelps by telephone at (202) 606-0830; by fax at (202) 606-2329; by TTY at (202) 418-3134; or by e-mail at Darlene.phelps@opm.gov.

SUPPLEMENTARY INFORMATION: On November 24, 2008, OPM published a proposed rule at 73 FR 70915, to incorporate a statutory extension of direct-hire authority for certain acquisition positions. In the National Defense Authorization Act for Fiscal Year 2008 (NDAA 2008), Public Law 110-181, Congress extended the direct-hire authority for acquisition positions under section 1413 of Public Law 108-136 through September 30, 2012. This statutory change permits department and agency heads (other than the Secretary of Defense) to determine, under regulations prescribed by OPM, when certain Federal acquisition positions are shortage positions for purposes of direct-hire authority. The Federal acquisition positions covered by section 1413 are listed in section 433(g)(1)(A) of title 41, United States Code.

OPM proposed to modify 5 CFR part 337, subpart B, to:

a. Update the legal authority citation for section 337.204(c) with section 1413(a) of Public Law 108-136, as amended by section 853 of Public Law 110-181;

b. Update section 337.206(d) to provide that agencies may not make new appointments under this authority after September 30, 2012; and

c. Remove the reporting requirements for this authority currently contained in 5 CFR 337.206(e).

Comments

OPM received no comments on the proposed rule.

E.O. 12866, Regulatory Review

This rule has been reviewed by the Office of Management and Budget in accordance with Executive Order 12866.

Regulatory Flexibility Act

I certify that this regulation will not have a significant economic impact on a substantial number of small entities because it applies only to Federal agencies and employees.

Lists of Subjects in 5 CFR Part 337

Government employees.

U.S. Office of Personnel Management.
John Berry,
Director.

Accordingly, OPM is amending part 337 of title 5, Code of Federal Regulations, as follows:

PART 337—EXAMINING SYSTEM

1. Revise the authority citation for part 337 to read as follows:

Authority: 5 U.S.C. 1104(a)(2), 1302, 2302, 3301, 3302, 3304, 3319, 5364; E.O. 10577, 3 CFR 1954-1958 Comp., p. 218; 33 FR 12423, Sept. 4, 1968; 45 FR 18365, Mar. 21, 1980; 116 Stat. 2290, sec. 1413 of Public Law 108-136 (117 Stat. 1665), as amended by sec. 853 of Public Law 110-181 (122 Stat. 250).

Subpart B—Direct Hire Authority

2. Revise paragraph (c) of § 337.204 to read as follows:

§ 337.204 Severe shortage of candidates.

* * * * *

(c) A department or agency head (other than the Secretary of Defense) may determine, pursuant to section 1413(a) of Public Law 108-136, as amended by section 853 of Public Law 110-181, that a shortage of highly qualified candidates exists for certain Federal acquisition positions (covered under section 433(g)(1)(A) of title 41, United States Code). To make such a determination, the deciding agency official must use the supporting evidence prescribed in 5 CFR 337.204(b)(1)-(8) and must maintain a file of the supporting evidence for documentation and reporting purposes.

3. Revise paragraph (d) of § 337.206 to read as follows:

§ 337.206 Terminations, modification, extensions, and reporting.

* * * * *

(d) No new appointments may be made under the provisions of section 1413 of Public Law 108-136 after September 30, 2012.

§ 337.206(e) [Removed]

4. Remove paragraph (e) of § 337.206.

[FR Doc. E9-28209 Filed 11-23-09; 8:45 am]

BILLING CODE 6325-39-P